DEPARTMENT OF HEALTH AND HUMAN SERVICES

National Institutes of Health

National Cancer Institute; Amended Notice of Meeting

Notice is hereby given of a change in the meeting of the Frederick National Laboratory Advisory Council, July 10, 2024, 9:30 p.m. to July 10, 2024, 4:00 p.m., National Institutes of Health, 9606 Medical Center Drive, Rockville, MD 20850 (Virtual Meeting), which was published in the Federal Register on June 24, 2024, FR Doc. 2024-13731, 89 FR 52481.

This notice is being amended to change the meeting start time. The meeting will now be held from 1:00 p.m. to 4:00 p.m. instead of from 9:30 a.m. to 4:00 p.m. The meeting is open to the public.

Dated: July 3, 2024.
David W. Freeman,
Supervisory Program Analyst, Office of Federal Advisory Committee Policy.

[FR Doc. 2024-15014 Filed 7-8-24; 8:45 am]

BILLING CODE 4140-01-P